NATIONAL TRANSPORTATION SAFETY BOARD

Notice of Sunshine Act Meeting

TIME AND DATE: 9:30 a.m., Tuesday, December 11, 2012.

PLACE: NTSB Conference Center, 429 L'Enfant Plaza SW., Washington, DC 20594.

STATUS: The two items are open to the public.

MATTER TO BE CONSIDERED:

8453 Special Investigation Report: Wrong-Way Driving.

8431A Highway Accident Report—Highway-Railroad Grade Crossing Collision U.S. Highway 95, Miriam, Nevada June 24, 2011. (RESCHEDULED from 10/30/2012.)

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Friday, December 7, 2012.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Peter Knudson (202) 314-6219 or by email at peter.knudson@ntsb.gov.

Dated: Friday, November 23, 2012.
Candi R. Bing,
Federal Register Liaison Officer.

[FR Doc. 2012-28846 Filed 11-23-12; 4:15 pm]

BILLING CODE 7533-01-P